SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before April 3, 2000.

ADDRESSES: Send all comments regarding whether this information collection is necessary for the proper performance of the function of the agency, whether the burden estimate is accurate, and if there are ways to minimize the estimated burden and enhance the quality of the collections, to Gregory Diercks, Y2K Loan Program Manager, Office of Financial Assistance, Small Business Administration, 409 3rd Street, S.W., Suite 8100.

FOR FURTHER INFORMATION CONTACT: Dorothy Davidson, Accountant, 202-205-7661 or Curtis B. Rich, Management Analyst, 202-205-7030.

SUPPLEMENTARY INFORMATION: Title: “Amendments to License Application”.

Form No: 415C.

Description of Respondents: Small Business Investment Companies.

Annual Responses: 1,200.

Annual Burden: 300.

Title: “Request for Information Concerning Portfolio Financing”.

Form No: 857.

Description of Respondents: Small Business Investment Companies.

Annual Responses: 2,160.

Annual Burden: 2,160.

Title: “Request for Information Concerning Portfolio Financing”.

Form No: 860.

Description of Respondents: Small Business Investment Companies.

Annual Responses: 1,500.

Annual Burden: 750.

Jacqueline White,
Chief, Administrative Information Branch.

[FR Doc. 00-2268 Filed 2-1-00; 8:45 am]

BILLING CODE 8025-01-P